DEPARTMENT OF COMMERCE

National Oceanic and Atmospheric Administration

Availability of Seats for National Marine Sanctuary Advisory Councils

AGENCY: Office of National Marine Sanctuaries (ONMS), National Ocean Service (NOS), National Oceanic and Atmospheric Administration (NOAA), Department of Commerce (DOC).

ACTION: Notice and request for applications.

SUMMARY: ONMS is seeking applications for vacant seats for 11 of its 13 national marine sanctuary advisory councils and for the Northwestern Hawaiian Islands Coral Reef Ecosystem Reserve Advisory Council (advisory councils). Vacant seats, including positions (i.e., primary member and alternate), for each of the advisory councils are listed in this notice under Supplementary Information. Applicants are chosen based upon their particular expertise and experience in relation to the seat for which they are applying; community and professional affiliations; views regarding the protection and management of marine or Great Lake resources; and possibly the length of residence in the area affected by the sanctuary. Applicants who are chosen as members or alternates should expect to serve two- or three year terms, pursuant to the charter of the specific national marine sanctuary advisory council or the Northwestern Hawaiian Islands Coral Reef Ecosystem Reserve Advisory Council.

DATES: Applications are due by March 31, 2015.

ADDRESSES: Application kits are specific to each advisory council. As such, application kits must be obtained from and returned to the council-specific addresses noted below.

• Channel Islands National Marine Sanctuary Advisory Council: Michael Murray, Channel Islands National Marine Sanctuary, University of California Santa Barbara, Ocean Science Education Building 514, MC 6155, Santa Barbara, CA 93106-6155; (805) 893- 6418; email Michael.Murray@noaa.gov; or download application from http://channelislands.noaa.gov/sac/council_news.html.

• Florida Keys National Marine Sanctuary Advisory Council: Beth Dieveney, Florida Keys National Marine Sanctuary, 33 East Quay Rd., Key West, FL 33040; (305) 809-4700 extension 228; email Beth.Dieveney@noaa.gov; or download application from http://floridakeys.noaa.gov/sac/welcome.html?s=sac.

• Flower Garden Banks National Marine Sanctuary Advisory Council: Shelley DuPuy, Flower Garden Banks National Marine Sanctuary, 4700 Avenue U, Bldg. 216, Galveston, TX 77551; (409) 621-5151 extension 106; email Shelley.DuPuy@noaa.gov; or download application from http://flowergarden.noaa.gov/advisorycouncil/councilnews.html.

• Gray's Reef National Marine Sanctuary Advisory Council: Becky Shortland, Gray's Reef National Marine Sanctuary, 10 Ocean Science Circle, Savannah, GA 31411; (912) 598- 2381; email Becky.Shortland@noaa.gov; or download application from http://graysreef.noaa.gov/management/sac/council_news.html.

• Gulf of the Farallones National Marine Sanctuary Advisory Council: Leslie Abramson, Gulf of the Farallones National Marine Sanctuary, 991 Marine Drive, The Presidio, San Francisco, CA 94129; (415) 561-6622 extension 306; email Leslie.Abramson@noaa.gov; or download application from http://farallones.noaa.gov/manage/sac.html.

• Hawaiian Islands Humpback Whale National Marine Sanctuary Advisory Council: Inouye Regional Center, ATTN: NOS/ONMS/Shannon Lyday, 1845 Wasp Blvd., Building 176, Honolulu, HI 96818; (808) 725-5905; email Shannon.Lyday@noaa.gov; or download application from http://hawaiihumpbackwhale.noaa.gov/council/council_app_accepting.html.

• Monitor National Marine Sanctuary Advisory Council: Shannon Ricles, Monitor National Marine Sanctuary, 100 Museum Drive, Newport News, VA 23606; (757) 591-7328; email Shannon.Ricles@noaa.gov; or download application from http://monitor.noaa.gov.

• Monterey Bay National Marine Sanctuary Advisory Council: Erin Ovalle, Monterey Bay National Marine Sanctuary, 99 Pacific Street, Building 455A, Monterey, CA 93940; (831) 647-4206; email Erin.Ovalle@noaa.gov; or download application from http://montereybay.noaa.gov/sac/2014/recruit/14v2/141114covlet.html.

• National Marine Sanctuary of American Samoa Advisory Council: Joseph Paulin, National Marine Sanctuary of American Samoa, Tauese P.F. Sunia Ocean Center, P.O. Box 4318, Pago Pago, AS 96799 (Utulei, American Samoa); (684) 633-6500; email Joseph.Paulin@noaa.gov; or download application from http://americansamoa.noaa.gov/about/samoa.html.

• Northwestern Hawaiian Islands Coral Reef Ecosystem Reserve Advisory Council: Hoku Johnson, NOAA Inouye Regional Center, NOS/ONMS/PMNM, 1845 Wasp Blvd., Building 176, Honolulu, HI 96818; (808) 725-5800; email Hoku.Johnson@noaa.gov; or download application from http://www.papahanaumokuakea.gov/council/.

• Olympic Coast National Marine Sanctuary Advisory Council: Karlyn Langjahr, Olympic Coast National Marine Sanctuary, 115 East Railroad Ave., Suite 101, Port Angeles, WA 98362; (360) 457-6622 extension 31; email Karlyn.Langjahr@noaa.gov; or download application from http://olympiccoast.noaa.gov/involved/sac/sac_welcome.html.

• Thunder Bay National Marine Sanctuary Advisory Council: Jean Bauer, Thunder Bay National Marine Sanctuary, 500 W. Fletcher Street, Alpena, Michigan 49707; (989) 356-8805 extension 13; email Jean.Bauer@noaa.gov; or download application from http://thunderbay.noaa.gov.

FOR FURTHER INFORMATION CONTACT: For further information on a particular national marine sanctuary advisory council, please contact the individual identified in the Addresses section of this notice.

SUPPLEMENTARY INFORMATION: ONMS serves as the trustee for 14 marine protected areas encompassing more than 170,000 square miles of ocean and Great Lakes waters from the Hawaiian Islands to the Florida Keys, and from Lake Huron to American Samoa. National marine sanctuaries protect our Nation's most vital coastal and marine natural and cultural resources, and through active research, management, and public engagement, sustains healthy environments that are the foundation for thriving communities and stable economies. One of the many ways ONMS ensures public participation in the designation and management of national marine sanctuaries is through the formation of advisory councils. National marine sanctuary advisory councils are community-based advisory groups established to provide advice and recommendations to the superintendents of the national marine sanctuaries on issues including management, science, service, and stewardship; and to serve as liaisons between their constituents in the community and the sanctuary. Additional information on ONMS and its advisory councils can be found at http://sanctuaries.noaa.gov. Information related to the purpose, policies and operational requirements for advisory councils can be found in the charter for a particular advisory council (http://sanctuaries.noaa.gov/management/ac/council_charters.html) and the National Marine Sanctuary Advisory Council Implementation Handbook (http://www.sanctuaries.noaa.gov/management/ac/acref.html).

The following is a list of the vacant seats, including positions (i.e., primary member or alternate), for each of the advisory councils currently seeking applications for members and alternates:

Channel Islands National Marine Sanctuary Advisory Council: Business (primary member); Business (alternate); Commercial Fishing (primary member); Commercial Fishing (alternate); Conservation (primary member); Conservation (alternate); Non-consumptive Recreation (primary member); Non-consumptive Recreation (alternate); Public At-large (two primary members); Research (primary member); and Research (alternate).

Florida Keys National Marine Sanctuary Advisory Council: Fishing—Charter Fishing Flats Guide (alternate).

Flower Garden Banks National Marine Sanctuary Advisory Council: Education (primary member); Oil and Gas Production (primary member); Recreational Diving (primary member); Recreational Fishing (primary member); and Research (primary member).

Gray's Reef National Marine Sanctuary Advisory Council: Citizen-at-large (primary member).

Gulf of the Farallones National Marine Sanctuary Advisory Council: Community-At-Large: San Francisco/San Mateo (primary member); Conservation (primary member); Conservation (alternate); Maritime Activities/Commercial (primary member); and Maritime Activities/Commercial (alternate).

Hawaiian Islands Humpback Whale National Marine Sanctuary Advisory Council: Business Commerce (primary member); Commercial Shipping (primary member); Commercial Shipping (alternate); Hawaii County (alternate); Lanai Island (alternate); Molokai Island (alternate); Native Hawaiian (alternate); and Whale Watching (primary member).

Monitor National Marine Sanctuary Advisory Council: Commercial and Recreational Fishing (primary member); and Education (primary member).

Monterey Bay National Marine Sanctuary Advisory Council: Conservation (alternate); and Education (primary member).

National Marine Sanctuary of American Samoa Advisory Council: Research (primary member).

Northwestern Hawaiian Islands Coral Reef Ecosystem Reserve Advisory Council: Native Hawaiian (alternate); and Native Hawaiian Elder (alternate).

Olympic Coast National Marine Sanctuary Advisory Council: Tourism/Economic Development (alternate).

Thunder Bay National Marine Sanctuary Advisory Council: Tourism/Recreation (primary member); Tourism/Recreation (alternate); Business/Economic Development (primary member); Business/Economic Development (alternate); Fishing (primary member); Fishing (alternate); Diving (primary member); Diving (alternate); Education, K-12 (primary member); Education, K-12 (alternate); Higher Education (primary member); Higher Education (alternate); Maritime Industry/Business (primary member); Maritime Industry/Business (alternate); Citizen-at-Large (three primary members); and Citizen-at-Large (three alternates).

Authority: 16 U.S.C. Sections 1431, et seq.

(Federal Domestic Assistance Catalog Number 11.429 Marine Sanctuary Program)

Dated: January 12, 2015.
Daniel J. Basta,
Director, Office of National Marine Sanctuaries, National Ocean Service, National Oceanic and Atmospheric Administration.

[FR Doc. 2015-02792 Filed 2-12-15; 8:45 am]

BILLING CODE 3510-NK-P